DEPARTMENT OF COMMERCE

Bureau of Industry and Security

15 CFR Part 736

[Docket No. 050803216-5216-01]

RIN 0694-AD30

Technical Correction

AGENCY: Bureau of Industry and Security, Commerce.

ACTION: Final rule; correction.

SUMMARY: On September 16, 2005, the Bureau of Industry and Security published a final rule that amended the Export Administration Regulations by making several revisions and clarifications. This document corrects an inadvertent error that the final rule made in redesignating several paragraphs. This correction ensures that paragraphs in Supplement No. 2 to part 736 of the Export Administration Regulations are consistently designated.

DATES: This rule is effective October 31, 2005.

ADDRESSES: Although this is a final rule, comments are welcome and should be sent to publiccomments@bis.doc.gov, fax (202) 482-3355, or to Regulatory Policy Division, Bureau of Industry and Security, Room H2705, U.S. Department of Commerce, Washington DC 20230. Please refer to regulatory identification number (RIN) 0694-AD30 in all comments, and in the subject line of email comments.

FOR FURTHER INFORMATION CONTACT: Timothy Mooney, Office of Exporter Services, Bureau of Industry and Security, Telephone: (202) 482-2440, Email: tmooney@bis.doc.gov.

SUPPLEMENTARY INFORMATION: This document corrects an inadvertent error in the final rule that was published by the Bureau of Industry and Security (BIS) on Friday, September 16, 2005 (70 FR 54626). The September 16, 2005 final rule amended the Export Administration Regulations (EAR) by, among other things, deleting a redundant paragraph and redesignating the remaining paragraphs in Administrative Order No. 2, Supplement No. 2 to part 736 of the EAR. The September 16, 2005 rule contained an inadvertent error in the amendatory text. Specifically, the final rule redesignated some paragraphs in Supplement No. 2 to part 736 of the EAR, but failed to redesignate all of them. To fix this inadvertent error, this document inserts amendatory text on page 54628 of the Federal Register of Friday, September 16, 2005, to redesignate the capital letter subparagraphs in Supplement No. 2 to part 736 of the EAR to the roman numeral level. This change will ensure that all relevant paragraphs in Supplement No. 2 to part 736 will be properly designated.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule involves a collection of information subject to the Paperwork Reduction Act of 1980 (44 U.S.C. 3501 et seq.). This collection has been approved by the Office of Management and Budget under control number 0694-0088, “Multi-Purpose Application,” which carries a burden hour estimate of 58 minutes for a manual or electronic submission. Send comments regarding these burden estimates or any other aspect of these collections of information, including suggestions for reducing the burden, to David Rostker, Office of Management and Budget (OMB), by email to David_Rostker@omb.eop.gov, or by fax to (202) 395-7285; and to the Office of Administration, Bureau of Industry and Security, Department of Commerce, 14th and Pennsylvania Avenue, NW., Room 6883, Washington, DC 20230.

3. This rule does not contain policies with Federalism implications as that term is defined under E.O. 13132.

4. The Department finds that there is good cause under 5 U.S.C. 553 (b)(3) to waive the provisions of the Administrative Procedure Act requiring prior notice and the opportunity for public comment because it is unnecessary. This regulation deletes a redundant paragraph and redesignates the remaining paragraphs in one section for clarity; inserts material inadvertently omitted from previous rules in three places in the EAR; clarifies instructions for applying for authorization to transfer items subject to the EAR in-country; adds an alias for a listed entity on the Entity List; and removes references to two ECCNs that do not exist. The revisions made by this rule are administrative in nature and do not affect the rights and obligations of the public. Because these revisions are not substantive changes to the EAR, it is unnecessary to provide notice and opportunity for public comment. In addition, the 30-day delay in effectiveness required by U.S.C. 553(d) is not applicable because this rule is not a substantive rule. No other law requires that a notice of proposed rulemaking and an opportunity for public comment be given for this rule.

Because notice of proposed rulemaking and opportunity for public comment are not required to be given for this rule under the Administrative Procedure Act or by any other law, the analytical requirements of the Regulatory Flexibility Act (5 U.S.C. 601 et. seq.) are not applicable.

List of Subjects in 15 CFR Part 736

Exports.

Accordingly, for the reasons set out in the preamble, 15 CFR part 736 is amended as follows:

1. The authority citation for part 736 continues to read as follows:

Authority: 50 U.S.C. app. 2401 et seq.; 50 U.S.C. 1701 et seq.; 22 U.S.C. 2151 (note), Pub. L. 108-175; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of November 4, 2004, 69 FR 64637, 3 CFR, 2004 Comp., p. 303; Notice of August 2, 2005, 70 FR 45273 (August 5, 2005).

SUPPLEMENT NO. 2 TO PART 736—[CORRECTED]

2. Supplement No. 2 to part 736, is amended in “Administrative Order Two” by:

a. Redesignating paragraphs (a)(2)(A) through (E) as paragraphs (a)(2)(i) through (v), respectively; and

b. Redesignating paragraphs (a)(3)(A) through (D) as paragraphs (a)(3)(i) through (iv), respectively.

Dated: October 20, 2005.
Eileen Albanese,
Director, Office of Exporter Services.

[FR Doc. 05-21351 Filed 10-28-05; 8:45 am]

BILLING CODE 3510-33-P